DEPARTMENT OF AGRICULTURE

Submission for OMB Review; Comment Request

March 25, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: National School Lunch Program.

OMB Control Number: 0584-0006.

Summary of Collection: Section 111 of the Child Nutrition and WIC Reauthorization Act of 2004 (Pub. L. 108-265; June 30, 2004) amended section 9(h) of the Richard B. Russell School Lunch Act (NSLA) (42 U.S.C. 1758(h)) by increasing the number of mandatory food safety inspections for schools participating in the National School Lunch Program and the School Breakfast Program from one to two per year and by requiring schools to post the most recent inspection report in a visible location and to release a copy of the report to the public upon request.

Need and Use of the Information: The information will be collected to ensure that State agencies annually monitor the number of food safety inspections obtained by schools and to submit the results to the Food and Nutrition Service for each fiscal year 2009 through 2012.

Description of Respondents: State, local, or Tribal government.

Number of Respondents: 122,662.

Frequency of Responses: Recordkeeping; Reporting: On occasion; Quarterly; Monthly; Annually.

Total Burden Hours: 9,558,282.

Food and Nutrition Service

Title: 7 CFR Part 220, School Breakfast Program.

OMB Control Number: 0584-0012.

Summary of Collection Section 4 of the Child Nutrition Act (CNA) of 1966, as amended, authorizes the School Breakfast Program (SBP). It provides for the appropriation of “such sums as are necessary to enable the Secretary to carry out a program to assist the States and the Department of Defense through grants-in-aid and other means to initiate, maintain, or expand nonprofit breakfast programs in all schools which make application for assistance and agree to carry out a nonprofit breakfast program in accordance with the Act.” The Food and Nutrition Service (FNS) administers the School Breakfast Program on behalf of the Secretary of Agriculture so that needy children may receive their breakfasts free or at a reduced price.

Need and Use of the Information: School food authorities provide information to State agencies. The State agencies report to FNS. FNS use the information submitted to determine the amount of funds to be reimbursed, evaluate and adjust program operations, and to develop projections for future program operations.

Description of Respondents: State, local, or Tribal government.

Number of Respondents: 100,339.

Frequency of Responses: Recordkeeping; Reporting: On occasion; Quarterly; Monthly; Semi-annually; Annually.

Total Burden Hours: 2,713,749.

Ruth Brown,
Departmental Information Collection Clearance Officer.

[FR Doc. E9-7011 Filed 3-27-09; 8:45 am]

BILLING CODE 3410-30-P